DEPARTMENT OF THE INTERIOR

Minerals Management Service

Agency Information Collection Activities: Proposed Collection; Comment Request

AGENCY: Minerals Management Service (MMS), Interior.

ACTION: Notice of revision of a currently approved information collection (OMB Control Number 1010-0050).

SUMMARY: As part of its continuing effort to reduce paperwork and respondent burden, MMS invites the public and other Federal agencies to comment on a proposal to revise the currently approved collection of information discussed below. We intend to submit this collection of information to the Office of Management and Budget (OMB) for approval. The Paperwork Reduction Act of 1995 (PRA) provides that an agency may not conduct or sponsor, and a person is not required to respond to, a collection of information unless it displays a currently valid OMB control number.

DATES: Submit written comments by April 24, 2000.

ADDRESSES: Mail or hand carry comments to the Department of the Interior, Minerals Management Service, Attention: Rules Processing Team, Mail Stop 4024, 381 Elden Street, Herndon, VA 20170-4817. Our practice is to make comments, including names and home addresses of respondents, available for public review during regular business hours. Individual respondents may request that we withhold their home address from the rulemaking record, which we will honor to the extent allowable by law. There may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy of the collection of information at no cost.

SUPPLEMENTARY INFORMATION: Title: 30 CFR 250, Subpart J, Pipelines and Pipeline Rights-of-Way (1010-0050).

Abstract: The Outer Continental Shelf (OCS) Lands Act, as amended, 43 U.S.C. 1334(e), authorizes the Secretary of the Interior (Secretary) to grant rights-of-way through the submerged lands of the OCS for pipelines “* * * for the transportation of oil, natural gas, sulphur, or other minerals, or under such regulations and upon such conditions as may be prescribed by the Secretary, * * * including (as provided in section 1347(b) of this title) assuring maximum environmental protection by utilization of the best available and safest technologies, including the safest practices for pipeline burial. * * *” This authority and responsibility are among those delegated to MMS. To carry out these responsibilities, MMS issues regulations governing oil and gas or sulphur operations in the OCS. In addition, MMS issues Notices to Lessees and Operators to supplement regulations to provide guidance and clarification.

The Independent Offices Appropriations Act of 1952 (IOAA), 31 U.S.C. 9701, authorizes Federal agencies to recover the full cost of services that provide special benefits. Under the Department of the Interior's (DOI) policy implementing the IOAA, MMS is required to charge the full cost for services that provide special benefits or privileges to an identifiable non-Federal recipient above and beyond those which accrue to the public at large. Pipeline rights-of-way and assignments are subject to cost recovery and MMS regulations specify filing fees for applications.

OMB has approved the information collection requirements in current subpart J regulations under control numbers 1010-0050 and 1010-0108. The first is the primary collection for subpart J. The latter was approved in connection with a final rule amending § 250.1000(c) to implement a provision of the new Memorandum of Understanding between DOI and the Department of Transportation (DOT). Our submission will consolidate these two subpart J collections under 1010-0050.

The pipelines are designed by the lessees and transmission companies that install, maintain, and operate them. To ensure those activities are performed in a safe manner, MMS needs information concerning the proposed pipeline and safety equipment, inspections and tests, and natural and manmade hazards near the proposed pipeline route. The information collected under subpart J is used by MMS field offices to review pipeline designs prior to approving an application for a right-of-way or a pipeline permitted under a lease. The records concerning pipeline inspections and tests are monitored by MMS inspectors to ensure safety of operations and protection of the environment. Specifically, MMS uses the information to:

• Monitor schedules for pipeline construction, installation, and tests to enable MMS personnel to schedule their workload to permit the witnessing of these operations to ensure safety and environmental protection.

• Review applications for pipeline permits and rights-of-way and pipeline construction reports to ensure that the pipeline, as constructed, will provide for safe transportation of minerals through the submerged lands of the OCS.

• Review applications for pipeline rights-of-way to ensure compliance with applicable rules of the DOT and other legal and administrative requirements for the granting of a pipeline right-of-way.

• Review proposed routes of a right-of-way to ensure that the right-of-way, if granted, would not conflict with any State requirements or unduly interfere with other OCS activities.

• Review pipeline repair procedures to ensure that the lessee takes appropriate safety and pollution-prevention measures.

• Review plans for taking pipeline safety equipment out of service to ensure alternate measures are used that will properly provide for the safety of the pipeline and associated facilities (platform, etc.).

• Review reports on findings of historical or potential archeological significance to ensure that such resources are protected.

• Review notification of relinquishment of a right-of-way grant to ensure that all legal obligations are met and that a pipeline will be abandoned properly.

• Determine the point at which DOI or DOT has regulatory responsibility for a pipeline and to be informed of the responsible operator if not the same as the right-of-way holder.

This collection of information does not require respondents to submit proprietary information. If such were submitted, we will protect it under the Freedom of Information Act (5 U.S.C. 552) and its implementing regulations (43 CFR 2) and 30 CFR 250.196. No items of a sensitive nature are collected. Responses are mandatory.

Frequency: The frequency of reporting is on occasion or annual.

Estimated Number and Description of Respondents: Approximately 290 Federal OCS oil, gas, and sulphur lessees and holders of pipeline rights-of way.

Estimated Annual Reporting and Recordkeeping “Hour” Burden: The currently approved burden for this collection is 67,538 hours for 1010-0050 and 1,051 hours for 1010-0108, for a combined total of 68,589 hours. This burden consists of various requirements, but the major burdens are:

• 140 hours to apply for a pipeline installation or right-of-way grant.

• 40 hours to modify an approved lease-term pipelines or right of way grant.

• 20 hours per year to inspect pipeline routes and maintain records.

• 16 hours to submit pipeline construction report.

• 10 hours to submit corrective action plan remedial action.

• 8 hours to apply for assignment of a right-of-way grant.

• 8 hours to notify and report on pipeline safety equipment problems.

Estimated Annual Recordkeeping “Non-Hour Cost” Burden: The currently approved burden for collection 1010-0050 is $251,000; there was no non-hour cost burden under 1010-0108. This cost burden is for the application fees required in §§ 250.1010(a) and 250.1013(b).

Comments

We will summarize written responses to this notice and address them in our submission for OMB approval. As a result of your comments and consultations with a sample of respondents, we will make any necessary adjustments to the burden in our submission to OMB. In calculating the burden, we assumed that respondents perform many of the requirements in the normal course of their activities. We consider these to be usual and customary and took that into account in estimating the burden.

(1) We specifically solicit your comments on the following questions:

(a) Is the proposed collection of information necessary for us to properly perform our functions, and will it be useful?

(b) Are the estimates of the burden hours of the proposed collection reasonable?

(c) Do you have any suggestions that would enhance the quality, clarity, or usefulness of the information to be collected?

(d) Is there a way to minimize the information collection burden on respondents, including through the use of appropriate automated electronic, mechanical, or other forms of information technology?

(2) In addition, the PRA requires agencies to estimate the total annual reporting “non-hour cost” burden to respondents or recordkeepers resulting from the collection of information. We need to know if you have costs associated with the collection of this information for either total capital and startup cost components or annual operation, maintenance, and purchase of service components. Your estimates should consider the costs to generate, maintain, and disclose or provide the information. You should describe the methods you use to estimate major cost factors, including system and technology acquisition, expected useful life of capital equipment, discount rate(s), and the period over which you incur costs. Capital and startup costs include, among other items, computers and software you purchase to prepare for collecting information; monitoring, sampling, drilling, and testing equipment; and record storage facilities. Generally, your estimates should not include equipment or services purchased: (i) before October 1, 1995; (ii) to comply with requirements not associated with the information collection; (iii) for reasons other than to provide information or keep records for the Government; or (iv) as part of customary and usual business or private practices.

MMS Information Collection Clearance Officer: Jo Ann Lauterbach, (202) 208-7744).

Dated: February 15, 2000.
E. P. Danenberger,
Chief, Engineering and Operations Division.

[FR Doc. 00-4176 Filed 2-22-00; 8:45 am]

BILLING CODE 4310-MR-U